DEPARTMENT OF THE INTERIOR

Bureau of Indian Affairs

[AAK6006201 190A2100DD AOR3030.999900]

Final Environmental Impact Statement for the Proposed Eagle Shadow Mountain Solar Project, Clark County, Nevada

AGENCY: Bureau of Indian Affairs, Interior.

ACTION: Notice of availability.

SUMMARY: This notice advises the public that the Bureau of Indian Affairs (BIA), as the lead Federal agency, with the Bureau of Land Management (BLM), the Environmental Protection Agency (EPA), U.S. Fish and Wildlife Service (USFWS), Nevada Department of Wildlife (NDOW), and the Moapa Band of Paiute Indians (Band) as Cooperating Agencies, intends to file a Final Environmental Impact Statement (FEIS) with the EPA for the proposed Eagle Shadow Mountain Solar Project (ESM Solar Project) on the Moapa River Indian Reservation (Reservation) in Clark County, Nevada. This notice also announces that the FEIS is now available for public review.

DATES: The FEIS is available at the following website: www.esmsolareis.com. In order to be fully considered, written comments on the FEIS must arrive no later than 30 days after EPA publishes its Notice of Availability in the Federal Register.

ADDRESSES: You may mail, email, hand carry or telefax written comments to Mr. Chip Lewis, Regional Environmental Protection Officer, BIA Western Regional Office, Branch of Environmental Quality Services, 2600 North Central Avenue, 4th Floor Mail Room, Phoenix, Arizona 85004-3008; fax (602) 379-3833; email: chip.lewis@bia.gov.

FOR FURTHER INFORMATION CONTACT: Mr. Chip Lewis, BIA Western Regional Office, Branch of Environmental Quality Services, 2600 North Central Avenue, Phoenix, Arizona 85004-3008, telephone (602) 379-6750; or Mr. Garry Cantley at (602) 379-6750.

SUPPLEMENTARY INFORMATION: The proposed Federal action, taken under 25 U.S.C. 415, is BIA's approval of a solar energy ground lease and associated agreements entered into by the Band with 326MK 8me LLC (Applicant), to provide for construction, operation, maintenance, and eventual decommissioning of an up-to 300 megawatt (MW) alternating current solar photovoltaic (PV) electricity generation facility located entirely on the Moapa River Indian Reservation (Reservation) and specifically on lands held in trust by BIA for the Band. The proposed 230 kilovolt (kV) generation-tie transmission line required for interconnection would be located on Reservation lands, Reservation lands within a designated utility corridor and federal lands administered and managed by BLM, and private lands. In addition, the Applicant would require the use of an existing access road also located both within the utility corridor and federal lands managed by the BLM. The Applicant has accordingly requested that the BIA and BLM additionally approve rights-of-way (ROWs) authorizing the construction and operation of the transmission line and use of the existing access road. Together, the proposed solar energy facility, transmission line, access road, and other associated facilities make up the proposed ESM Solar Project.

The solar facility would generate electricity using PV panels. Also included would be inverters, a collection system, a potential battery storage system, an on-site substation to step-up the voltage to transmission level voltage at 230 kV, an operations and maintenance building, and other related facilities. An overhead 230 kV generation-tie transmission line, approximately 12.5 miles long, would connect the solar project to NV Energy's Reid-Gardner 230 kV substation.

Construction of the ESM Solar Project is expected to take approximately 16 to 18 months. The Applicant is expected to operate the energy facility for 30 years, with two options to renew the lease for an additional 5 years each, if mutually acceptable to the Band and Applicant. During construction, the PV panels would be placed on single-axis tracking mounting systems that are set on steel posts embedded in the ground. Other foundation design techniques may be used depending on the site topography and conditions. No water would be used to generate electricity during operations. Water would be needed during construction for dust control and a minimal amount would be needed during operations for panel washing and administrative and sanitary water use on site. The water supply required for the Project would be leased from the Band and would be provided via existing nearby wells. Access to the ESM Solar Project would be provided via the existing access road that connects to North Las Vegas Boulevard.

The purposes of the ESM Solar Project are to: (1) Help to provide a long-term, diverse, and viable economic revenue base and job opportunities for the Band; (2) help the state of Nevada to meet its renewable energy needs; and (3) allow the Band, in partnership with the Applicant, to optimize the use of the lease site while maximizing the potential economic benefit to the Band.

The BIA and BLM will use the EIS to make decisions on the land lease and ROW applications under their respective jurisdiction; the EPA may use the document to make decisions under its authorities; the Band may use the EIS to make decisions under its Environmental Policy Ordinance; and the USFWS may use the EIS to support its decision under the Endangered Species Act.

Directions for Submitting Comments: Please include your name, return address and the caption: “FEIS Comments, Proposed Eagle Shadow Mountain Solar Project”, on the first page of your written comments.

Locations Where the FEIS is Available for Review: The FEIS will be available for review at: BIA Western Regional Office, 2600 North Central Avenue, 12th Floor, Suite 210, Phoenix, Arizona; BIA Southern Paiute Agency, 180 North 200 East, Suite 111, St. George, Utah; and the BLM Southern Nevada District Office, 4701 North Torrey Pines Drive, Las Vegas, Nevada. The FEIS is also available on line at: www.esmsolareis.com.

To obtain a compact disk copy of the FEIS, please provide your name and address in writing or by voicemail to Mr. Chip Lewis or Mr. Garry Cantley. Their contact information is listed in the FOR FURTHER INFORMATION CONTACT section of this notice. An individual paper copy of the FEIS will be provided only upon request.

Public Comment Availability: Written comments, including names and addresses of respondents will be available for public review at the BIA Western Regional Office, 2600 North Central Avenue, 12th Floor, Suite 210, Phoenix, Arizona during regular business hours, 8 a.m. to 4:30 p.m., Monday through Friday, except holidays. Before including your address, telephone number, email address, or other personal identifying information in your comment, you should be aware that your entire comment—including your personal identifying information— may be made publicly available at any time. While you can ask us in your comment to withhold your personal identifying information from public review, we cannot guarantee that we will be able to do so.

Authority: This notice is published in accordance with section 1503.1 of the Council on Environmental Quality regulations (40 CFR 1500 et seq.) and the Department of the Interior Regulations (43 CFR part 46) implementing the procedural requirements of the National Environmental Policy Act (42 U.S.C. 4321 et seq.), and in accordance with the exercise of authority delegated to the Assistant Secretary—Indian Affairs by part 209 of the Department Manual.

Dated: December 17, 2019.
Tara Sweeney,
Assistant Secretary—Indian Affairs.

[FR Doc. 2019-27531 Filed 12-19-19; 8:45 am]

BILLING CODE 4337-15-P